DEPARTMENT OF JUSTICE

Notice of Lodging of Proposed Consent Decree Under the Clean Water Act

On August 30, 2019, the Department of Justice lodged a proposed Consent Decree with the United States District Court for the Western District of Arkansas in the lawsuit entitled United States, et al. v. Delek Logistics Operating, LLC, and SALA Gathering Systems, LLC, Case No. 1:18-cv-01040-SOH.

The proposed Consent Decree resolves the United States' claims under Sections 301(a), 311(b) and 311(j) of the Clean Water Act, 33 U.S.C. 1311(a), 1321(b), and 1321(j), as well as the State of Arkansas' claims under Arkansas Hazardous Waste Management Act, Ark. Code Ann. §§ 8-7-201-227, the Arkansas Water and Air Pollution Control Act, Ark. Code Ann. §§ 8-4-101-409, and Arkansas Pollution Control and Ecology Commission Regulations 2.409 and 2.410. The claims arose from Defendants' operation of an oil storage and transfer station in Magnolia, Arkansas, and an oil spill that occurred at the facility on March 8, 2013. Under the proposed Consent Decree, Defendants have agreed to pay a civil penalty of $2,255,460.00 and perform injunctive relief measures to resolve the United States' and State of Arkansas' claims.

The publication of this notice opens a period for public comment on the Consent Decree. Comments should be addressed to the Assistant Attorney General, Environment and Natural Resources Division, and should refer to Delek Logistics Operating, LLC, and SALA Gathering Systems, LLC, Case No. 1:18-cv-01040-SOH, D.J. Ref. No. 90-5-1-1-11308. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $14.50 (25 cents per page reproduction cost) payable to the United States Treasury.

Jeffrey Sands,
Assistant Section Chief, Environmental Enforcement Section, Environment and Natural Resources Division.

[FR Doc. 2019-19274 Filed 9-5-19; 8:45 am]

BILLING CODE P